DEPARTMENT OF TRANSPORTATION

Federal Highway Administration

Agency Information Collection Activities: Submission for OMB Review

AGENCY: Federal Highway Administration (FHWA), DOT.

ACTION: Notice and request for comments.

SUMMARY: The FHWA has forwarded the information collection request described in this notice to the Office of Management and Budget (OMB) for review and approval. We published a Federal Register Notice with a 60-day public comment period on this information collection on March 16, 2001 (66 FR 15316). We are required to publish this notice in the Federal Register by the Paperwork Reduction Act of 1995.

DATES: Please submit comments by October 1, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

SUPPLEMENTARY INFORMATION: Title: Indian Reservation Roads, Program Administration Survey.

OMB Control Number: 2125-0565 (Expiration Date: November 30, 2001).

Abstract: The FHWA and the Bureau of Indian Affairs (BIA) jointly administer the Indian Reservation Roads (IRR) Program. Surveys are conducted of federally recognized tribes to provide feedback regarding their satisfaction with the IRR Program. The collected information is used by the FHWA and the BIA to improve the administration of the IRR program. This survey gathers information from the tribes to assess: (1) overall levels of understanding of the IRR program; (2) involvement in the IRR program; and (3) satisfaction with the IRR program administration and accomplishments. In addition, the survey allows tribes to propose recommendations for improving the operation and administration of the IRR program.

Respondents: Approximately 562 federally recognized tribes.

Estimated Total Annual Burden: It is estimated that each response requires 30 minutes. The surveys are conducted approximately every 2 years (281 biannual burden hours); 141 annual burden hours.

FOR FURTHER INFORMATION CONTACT: Mr. Robert Sparrow, 202-366-9483, Department of Transportation, Federal Highway Administration, Federal Lands Highway Core Business Unit, 400 Seventh Street, SW., Washington, DC 20590. Office hours are from 7:30 a.m. to 4:30 p.m., Monday through Friday, except Federal holidays.

Electronic Access: Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Paperwork Reduction Act of 1995; 44 U.S.C. Chapter 35, as amended; and 49 CFR 1.48.

Issued on: August 28, 2001.
James R. Kabel,
Chief, Management Programs and Analysis Division.

[FR Doc. 01-22040 Filed 8-30-01; 8:45 am]

BILLING CODE 4910-22-P